ENVIRONMENTAL PROTECTION AGENCY

40 CFR Part 52

[EPA-R01-OAR-2017-0102 and EPA-R01-OAR-2016-0758; FRL-9962-02-Region 1]

Air Plan Approval; NH; Nonattainment New Source Review and Prevention of Significant Deterioration Permit Program Revisions; Public Hearing Revisions for State Permitting Programs; Withdrawal of Permit Fee Program; Infrastructure Provisions for National Ambient Air Quality Standards

AGENCY: Environmental Protection Agency (EPA).

ACTION: Proposed rule.

SUMMARY: The Environmental Protection Agency (EPA) is proposing to approve several different State Implementation Plan (SIP) revisions submitted to EPA by the New Hampshire Department of Environmental Services (NHDES). New Hampshire submitted to EPA on October 26, 2016, revisions satisfying the NHDES's earlier commitment to adopt and submit provisions that meet certain requirements of the federal Prevention of Significant Deterioration (PSD) and Nonattainment New Source Review (NNSR) air permit program regulations. This proposed action will convert to full approval EPA's September 25, 2015 conditional approval of New Hampshire's PSD and NNSR permit programs. This action also will approve NHDES's SIP revisions relating to several New Hampshire infrastructure SIPs, which were conditionally approved by EPA on December 16, 2015, and July 8, 2016.

Additionally, EPA is also proposing to approve: a January 31, 2017 SIP revision amending the public notice and hearing procedures for New Hampshire's NNSR, PSD, and minor NSR permit programs; a January 18, 2017 SIP revision withdrawing the State SIP's permit fee system; and a November 17, 2015 SIP revision that addresses the good neighbor provisions of New Hampshire's infrastructure SIP for the 2010 nitrogen oxide (NO2) national ambient air quality standard (NAAQS). This action is being taken in accordance with the Clean Air Act (CAA).

DATES: Written comments must be received on or before June 26, 2017.

ADDRESSES: Submit your comments, identified by Docket ID No. EPA-R01-OAR-2017-0102 and EPA-R01-OAR-2016-0758 at https://www.regulations.gov, or via email to mcdonnell.ida@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the “For Further Information Contact” section. For the full EPA public comment policy, information about CBI or multimedia submissions, and general guidance on making effective comments, please visit https://www2.epa.gov/dockets/commenting-epa-dockets.

FOR FURTHER INFORMATION CONTACT: Ida E. McDonnell, Manager, Air Permits, Toxics, and Indoor Programs Unit, Office of Ecosystem Protection, U.S. Environmental Protection Agency, EPA New England Regional Office, 5 Post Office Square, Suite 100, (OEP05-2), Boston, MA 02109-3912, phone number (617) 918-1653, fax number (617) 918-0653, email McDonnell.Ida@epa.gov.

SUPPLEMENTARY INFORMATION: In the Final Rules Section of this Federal Register, EPA is approving the State's SIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: April 19, 2017.
Deborah A. Szaro,
Acting Regional Administrator, EPA New England.

[FR Doc. 2017-09538 Filed 5-24-17; 8:45 am]

BILLING CODE 6560-50-P